DEPARTMENT OF HOMELAND SECURITY

Federal Emergency Management Agency

44 CFR Part 65

[Docket No. FEMA-B-1023]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changed BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Pinal | City of Maricopa (07-09-1819P) | October 26, 2008; November 2, 2008; Casa Grande Dispatch | The Honorable Anthony Smith, Major, City of Maricopa, P.O. Box 610, Maricopa, AZ 85239 | March 3, 2009 | 040052
Pinal | Unincorporated areas of Pinal County (07-09-1819P) | October 26, 2008; November 2, 2008; Casa Grande Dispatch | The Honorable Lionel D. Ruiz, Chairman, Pinal County, Board of Supervisors, P.O. Box 827, Florence, AZ 85232 | March 3, 2009 | 040077
Arkansas: Pulaski | City of Little Rock (08-06-2112P) | November 4, 2008; November 11, 2008; Arkansas Democrat Gazette | The Honorable Mark Stodola, Mayor, City of Little Rock, 500 West Markham Street, Suite 203, Little Rock, AR 72201 | October 29, 2008 | 050181
Colorado:
Arapahoe | Unincorporated areas of Arapahoe County (08-08-0760P) | November 14, 2008; November 21, 2008; Rocky Mountain News | The Honorable Susan Beckman, Chairman, Arapahoe County, Board of Commissioners, 5334 South Prince Street, Littleton, CO 80166-0001 | March 23, 2009 | 080011
Boulder | City of Boulder (08-08-0701P) | October 24, 2008; October 31, 2008; The Daily Camera | The Honorable Shaun McGrath, Mayor, City of Boulder, P.O. Box 791, Boulder, CO 80306 | October 10, 2008 | 080024
Boulder | Unincorporated areas of Boulder County (08-08-0701P) | October 24, 2008; October 31, 2008; The Daily Camera | The Honorable Ben Pearlman, Chairman, Boulder County, Board of Commissioners, P.O. Box 471, Boulder, CO 80306 | October 10, 2008 | 080023
Denver | City and County of Denver (08-08-0760P) | November 14, 2008; November 21, 2008; Rocky Mountain News | The Honorable John W. Hickenlooper, Mayor, City and County of Denver, 1437 Bannock Street, Suite 350, Denver, CO 80202 | March 23, 2009 | 080046
Douglas | Town of Parker (08-08-0810P) | October 30, 2008; November 6, 2008; Douglas County News Press | The Honorable David Casiano, Mayor, Town of Parker, 20120 East Main Street, Parker, CO 80138-7334 | March 6, 2009 | 080310
Connecticut: New Haven | Town of Branford (08-01-1042P) | November 13, 2008; November 20, 2008; The Sound | The Honorable Anthony DaRos, First Selectman, Town of Branford, 1019 Main Street, Branford, CT 06405 | October 31, 2008 | 090073
Delaware:
New Castle | Unincorporated areas of New Castle County (08-03-0143P) | November 12, 2008; November 19, 2008; The News Journal | The Honorable Christopher Coons, County Executive, New Castle County, 87 Read's Way, New Castle, DE 19720 | October 31, 2008 | 105085
New Castle | City of Wilmington (08-03-0143P) | November 12, 2008; November 19, 2008; The News Journal | The Honorable James M. Baker, Mayor, City of Wilmington, 800 North French Street, Wilmington, DE 19801 | October 31, 2008 | 100028
Florida:
Bay | Unincorporated areas of Bay County (08-04-2649P) | October 31, 2008; November 7, 2008; The News Herald | The Honorable Jerry L. Girvin, Chairman, Bay County Board of Commissioners, 810 West Eleventh Street, Panama City, FL 32401 | March 9, 2009 | 120004
Bay | City of Panama City Beach (08-04-2649P) | October 31, 2008; November 7, 2008; The News Herald | The Honorable Gayle Oberst, Mayor, City of Panama City Beach, 110 South Arnold Road, Panama City Beach, FL 32413 | March 9, 2009 | 120013
Collier | City of Naples (08-04-4493P) | October 22, 2008; October 29, 2008; Naples Daily News | The Honorable Bill Barnett, Mayor, City of Naples, 735 Eighth Street South, Naples, FL 34102 | October 15, 2008 | 125130
Georgia: Muscogee County Consolidated Government | City of Columbus—Muscogee County Consolidated Government (08-04-3155P) | May 21, 2008; May 29, 2008; The Columbus Times | The Honorable Jim Wetherington, Mayor, City of Columbus—Muscogee County Consolidated Government, P.O. Box 1340, Columbus, GA 31902 | August 25, 2008 | 135158
Minnesota: Olmsted | City of Oronoco (08-05-3390P) | November 12, 2008; November 19, 2008; The News Record | The Honorable Scott Keigley, Mayor, City of Oronoco, P.O. Box 195, Oronoco, MN 55960 | October 31, 2008 | 270330
Nevada: Elko | City of Elko (08-09-0345P) | October 24, 2008; October 31, 2008; Elko Daily Free Press | The Honorable Michael J. Franzoia, Mayor, City of Elko, 1751 College Avenue, Elko, NV 89801 | March 2, 2009 | 320010
New Jersey: Passaic | Township of Little Falls (08-02-0616P) | April 4, 2008; April 11, 2008; Herald News | The Honorable Eugene Kulick, Mayor, Township of Little Falls, 225 Main Street, Little Falls, NJ 07424 | August 11, 2008 | 340401
South Carolina: Lexington | Unincorporated areas of Lexington County (08-04-1961P) | October 29, 2008; November 5, 2008; The State | The Honorable William C. Derrik, Chairman, Lexington County Council, 2241 Ridge Road, Leesville, SC 29070 | March 5, 2009 | 450129
Texas:
Bell | City of Killeen (07-06-1831P) | October 30, 2008; November 6, 2008; Killeen Daily Herald | The Honorable Timothy L. Hancock, Mayor, City of Killeen, P.O. Box 1329, Killeen, TX 76540 | March 6, 2009 | 480031
Bexar | Unincorporated areas of Bexar County (07-06-2018P) | October 31, 2008; November 7, 2008; San Antonio Express News | The Honorable Nelson W. Wolff, Bexar County Judge, 100 Dolorosa Street, Suite 120, San Antonio, TX 78205 | March 9, 2009 | 480035
Bexar | City of San Antonio (07-06-2018P) | October 31, 2008; November 7, 2008; San Antonio Express News | The Honorable Phil Hardberger, Mayor, City of San Antonio, P.O. Box 839966, San Antonio, TX 78283 | March 9, 2009 | 480045
Johnson | City of Burleson (08-06-0984P) | November 5, 2008; November 12, 2008; Burleson Star | The Honorable Kenneth Shetter, Mayor, City of Burleson, 141 West Renfro Street, Burleson, TX 76028 | March 12, 2009 | 485459
Kendall | City of Boerne (08-06-1974P) | October 14, 2008; October 21, 2008; The Boerne Star | The Honorable Dan Heckler, Mayor, City of Boerne, P.O. Box 1677, Boerne, TX 78006 | September 24, 2008 | 480418
Travis | City of Austin (08-06-2992P) | November 12, 2008; November 19, 2008; Austin American Statesman | The Honorable Will Wynn, Mayor, City of Austin, P.O. Box 1088, Austin, TX 78767 | October 31, 2008 | 480624
Webb | City of Laredo (08-06-0322P) | July 4, 2008; July 11, 2008; Laredo Morning Times | The Honorable Raul G. Salinas, Mayor, City of Laredo, 1110 Houston Street, Laredo, TX 78040 | November 10, 2008 | 480651
Utah: Washington | City of St. George (08-08-0509P) | July 3, 2008; July 10, 2008; The Spectrum | The Honorable Daniel D. McArthur, Mayor, City of St. George, 175 East 200 North, St. George, UT 84770 | November 7, 2008 | 490177

(Catalog of Federal Domestic Assistance No. 97.022, “Flood Insurance.”)

Dated: December 5, 2008.
Michael K. Buckley,
Acting Assistant Administrator, Mitigation Directorate, Department of Homeland Security, Federal Emergency Management Agency.

[FR Doc. E8-29776 Filed 12-15-08; 8:45 am]

BILLING CODE 9110-12-P